DEPARTMENT OF THE INTERIOR

Fish and Wildlife Service

Draft Revised Comprehensive Conservation Plan for Kodiak National Wildlife Refuge, Alaska

AGENCY: Fish and Wildlife Service, Department of the Interior.

ACTION: Notice of availability.

SUMMARY: The U.S. Fish and Wildlife Service (Service) announces that the Revised Draft Comprehensive Conservation Plan (Draft Conservation Plan) and Environmental Impact Statement for the Kodiak National Wildlife Refuge is available for review and comment. The Draft Conservation Plan was prepared pursuant to the Alaska National Interest Lands Conservation Act of 1980 (ANILCA; 16 U.S.C. 140hh-3233, 43 U.S.C. 1602-1784), the National Wildlife Refuge System Administration Act of 1966 (Refuge Administration Act) as amended by the National Wildlife Refuge System Improvement Act of 1997 (Refuge Improvement Act) (16 U.S.C. 668dd-668ee), and the National Environmental Policy Act of 1969 as amended (42 U.S.C. 4321-4347). Four alternatives for management of the Kodiak Refuge over the next 15 years, including continuing current management, are considered in the Draft Conservation Plan.

DATES: Comments on the Draft Conservation Plan must be received on or before January 24, 2005.

Public Meetings: Meetings will be held in Anchorage, the City of Kodiak, and in other local communities near the Refuge, as requested. Dates, times, and locations of these meetings will be announced at a later date and advertised in these communities, as appropriate.

ADDRESSES: To provide written comments or to request a paper copy or a compact diskette of the Draft Conservation Plan, contact Mikel Haase, Planning Team Leader, U.S. Fish and Wildlife Service, 1011 East Tudor Road, MS 231, Anchorage, Alaska, 99503-6199; telephone: (907) 786-3402; fax: (907) 786-3965. You may also access or download a copy of the Draft Conservation Plan at the following Web site: http://alaska.fws.gov/planning. Comments may be e-mailed to: fw_kodiak_planning@fws.gov.

Copies of the Draft Conservation Plan may be viewed at the Kodiak Refuge Office, 1390 Bushkin River Road, Kodiak, Alaska; local libraries, and the U.S. Fish and Wildlife Service Regional Office in Anchorage, Alaska.

FOR FURTHER INFORMATION CONTACT: Mikel Haase at the above address or by phone at (907) 786-3402.

SUPPLEMENTARY INFORMATION: The Alaska National Interest Lands Conservation Act requires development of a conservation plan for all national wildlife refuges in Alaska. The Draft Conservation Plan for the Kodiak Refuge was developed consistent with Section 304(g) of ANILCA and the National Wildlife Refuge System Administration Act as amended by the National Wildlife Refuge System Improvement Act. Conservation plans provide refuge managers with a 15-year management strategy for achieving refuge purposes and contributing toward the mission of the National Wildlife Refuge System, consistent with sound principles of fish, wildlife, and habitat management and conservation; legal mandates; and Service policies. Plans define long-term goals and objectives toward which refuge management activities are directed and identify which uses may be compatible with the purposes of the refuge. They identify wildlife-dependent recreation opportunities available to the public, including hunting, fishing, wildlife observation and photography, and environmental education and interpretation. Conservation plans are updated in accordance with planning direction in Section 304(g) of ANILCA and with the National Environmental Policy Act.

Background: On August 19, 1941, President Franklin D. Roosevelt established the Kodiak National Wildlife Refuge by Executive Order 8857 “for the purpose of protecting the natural feeding and breeding ranges of the brown bears and other wildlife on Uganik and Kodiak Islands.” The Alaska Native Claims Settlement Act of 1971 allowed the conveyance of about 310,000 acres of Refuge land to Native village corporations.

On December 2, 1980, ANILCA added about 50,000 acres on Afognak and Ban islands to the Kodiak Refuge and stated that the Kodiak Refuge purposes include: To conserve fish and wildlife populations and habitats in their natural diversity; to fulfill international treaty obligations of the United States with respect to fish and wildlife and their habitats; to provide the opportunity to continued subsistence use by local residents; and to ensure water quality and necessary water quantity within the Refuge.

Since 1994, the Service has purchase fee title to nearly 174,000 acres, and conservation or nondevelopment easements have been acquired on more than 100,000 acres within the Refuge boundaries. Today, Refuge boundaries encompass nearly 1.8 million acres, of which nearly 1.64 million acres (92 percent) are under Service jurisdiction.

The original Kodiak conservation plan was completed in 1987. The plan was prepared following direction in Section 304(g) of ANILCA. The 1997 Refuge Improvement Act includes additional direction for conservation planning throughout the Refuge System. This direction has been incorporated into national planning policy for the Refuge System, including refuges in Alaska. This draft revision of the Kodiak conservation plan meets the requirements of both ANILCA and the Refuge Improvement Act.

Issues raised during scoping and addressed in this draft conservation plan are (1) how to manage public use, given limited access and projected growth in demand, to continue providing opportunities for appropriate and quality use while preventing significant impacts to Refuge resources; and (2) what types of bear-viewing opportunities should be available on the Refuge and how should these opportunities be managed while protecting bears and their habitats.

This draft conservation plan identifies and evaluates four alternatives for managing the Kodiak Refuge for the next 15 years. These alternatives follow the same general management direction but provide different ways of addressing the issues.

Alternative A: Current Management: Management of the Refuge would continue to follow the 1987 conservation plan and record of decision as modified by subsequent step-down plans, including fisheries and public use management plans. Private and commercial uses of the refuge would continue at current levels. Refuge management would continue to reflect existing laws, executive orders, regulations, and policies governing Service administration and operation of the National Wildlife Refuge System. Regulations would be adopted to seasonally limit all public use (commercial users are restricted by stipulations placed on their special use permits) of nine bear-concentration areas; to close two bear-denning areas to snowmachine use; and to restrict camping near public use cabins and administrative facilities. Seven existing public use cabins would be maintained, two additional cabins would be constructed, and cabins on newly acquired lands would be managed for public use, if located on appropriate sites. Impacts at heavily used camping areas would be managed by restricting use through regulations. The seasonal closure to all users at O'Malley River would continue with no formal bear-viewing program. Refuge lands would continue to be managed under Moderate (44,627 acres) and Minimal (1,578,700 acres) management categories, with Special River Management as an option for rivers receiving higher levels of public use.

Alternative B: Much of the general management direction in Alternative A would continue, although some specific directions and actions occurring under current management would be altered or not pursued under this alternative. Clearer goals and objectives for increasing our knowledge of wildlife and habitat needs and relationships would be established. Public use monitoring would facilitate wildlife-dependent recreation, subsistence, and other traditional uses. None of the regulations proposed in Alternative A would be promulgated; voluntary guidelines for public use of bear-concentration areas would be developed. These guidelines would replace use restrictions on special use permits issued to commercial users. The number of public use cabins would be allowed to expand as demand increases, either by constructing new cabins or by managing cabins on newly acquired lands for public use. Food storage containers, latrines, temporary electric fences, and other minor improvements could be provided if needed at popular camping areas to reduce impacts. The O'Malley River closure would be modified to allow a guide operating under a refuge special use permit to operate a formal bear-viewing program. The permit would be awarded competitively. Refuge lands would continue to be managed in Moderate and Minimal management categories as in Alternative A. The Special River Management category would be eliminated.

Alternative C: Much of the general management direction in Alternative A would continue, although some specific directions and actions occurring under current management would be altered or not pursued in this alternative. As with Alternative B, clearer goals and objectives for increasing our knowledge of wildlife and habitat needs and relationships would be established. Public use monitoring would facilitate wildlife-dependent recreation, subsistence, and other traditional uses. Voluntary guidelines for public use of bear-concentration areas would be developed. These guidelines would replace use restrictions on special use permits issued to commercial users. Seasonal closure or day-use-only restrictions could be proposed for some bear-concentration areas, based on, on-going evaluation of the effectiveness of voluntary use guidelines in these areas. Two bear-denning area would be phased out over time. Impacts at heavily used camping areas would be managed by restricting use through regulations. Regulations would be adopted to restrict camping near public use cabins and administrative facilities. The O'Malley River closure would be modified to allow the Service, in cooperation with the Alaska Department of Fish and Game, to operate a formal bear-viewing program. Bear-viewing permits would be awarded to individuals by lottery. The Moderate Management category would be reduced by 11,192 acres; the acreage in Minimal Management would increase by an equivalent amount. The Special River Management category would be eliminated.

Alternative D: Preferred Alternative: Much of the general management direction in Alternative A would continue, although some specific directions and actions occurring under current management would be altered or not pursued in this alternative. As in Alternatives B and C, clearer goals and objectives for increasing our knowledge of wildlife and habitat needs and relationships would be established. Public use monitoring would facilitate wildlife-dependent recreation, subsistence, and other traditional uses. Voluntary guidelines for public use of bear-concentration areas would be developed. These guidelines would replace use restrictions on special use permits issued to commercial users. Day-use-only restrictions could be proposed for some bear-concentration areas based on, on-going evaluation of the effectiveness of voluntary use guidelines in these areas. One bear-denning area would be closed to snowmachine use by regulation. Seven public use cabins would be maintained, two additional cabins would be constructed, and cabins on newly acquired land would be managed for public use, if located on appropriate sites. Regulations would be adopted to restrict camping near public use cabins and administrative facilities. Food-storage containers, latrines, temporary electric fences, and other minor improvements could be provided if needed at popular camping areas to reduce impacts. The O'Malley River closure would be modified to allow a formal bear-viewing program combining agency-supervised use (allocated to the public by lottery) with guided use (offered to the public by qualified guides selected through a competitive process and operating under a Refuge special use permit). The Moderate Management category would be reduced by 30,946 acres; the acreage in Minimal Management would increase by an equivalent amount. The Special River Management category would be eliminated.

Dated: October 13, 2004.
Rowan W. Gould,
Regional Director, Fish and Wildlife Service, Anchorage, Alaska.

[FR Doc. 04-23832 Filed 10-22-04; 8:45 am]

BILLING CODE 4310-55-M